SUSQUEHANNA RIVER BASIN COMMISSION

Projects Rescinded for Consumptive Uses of Water

AGENCY: Susquehanna River Basin Commission.

ACTION: Notice.

SUMMARY: This notice lists the approved by rule projects rescinded by the Susquehanna River Basin Commission during the period set forth in DATES.

DATES: March 1 through April 30, 2014.

ADDRESSES: Susquehanna River Basin Commission, 4423 North Front Street, Harrisburg, PA 17110-1788.

FOR FURTHER INFORMATION CONTACT: Richard A. Cairo, General Counsel, telephone: (717) 238-0423, ext. 1306; fax: (717) 238-2436; email: rcairo@srbc.net. Regular mail inquiries may be sent to the above address.

SUPPLEMENTARY INFORMATION: This notice lists the projects, described below, being rescinded for the consumptive use of water pursuant to the Commission's approval by rule process set forth in 18 CFR 806.22(e) and § 806.22(f) for the time period specified above:

Rescinded ABR Issued March 1-31, 2014

1. Range Resources—Appalachia, LLC, Pad ID: Grays Run Club Unit #2H, ABR-20100455, Jackson Township, Lycoming County, Pa.; Rescind Date: March 10, 2014.

2. Chesapeake Appalachia, LLC, Pad ID: Arch, ABR-201106022, Sweden Township, Potter County, Pa.; Rescind Date: March 25, 2014.

3. Range Resources—Appalachia, LLC, Pad ID: Ogontz 3 Drilling Pad, ABR-20090606, Cummings Township, Lycoming County, Pa; Rescind Date: April 18, 2014.

4. Range Resources—Appalachia, LLC, Pad ID: McWilliams 1, ABR-20090607, Cogan House Township, Lycoming County, Pa; Rescind Date: April 18, 2014.

5. Range Resources—Appalachia, LLC, Pad ID: Gentner 3, ABR-20100153, Cummings Township, Lycoming County, Pa; Rescind Date: April 18, 2014.

6. Range Resources—Appalachia, LLC, Pad ID: Dog Run Hunting Club Unit, ABR-20100456, Cummings Township, Lycoming County, Pa; Rescind Date: April 18, 2014.

7. Range Resources—Appalachia, LLC, Pad ID: Harman, Lewis Unit #1H Drilling Pad, ABR-20100554, Moreland Township, Lycoming County, Pa; Rescind Date: April 18, 2014.

8. Range Resources—Appalachia, LLC, Pad ID: Shohocken Hunt Club Unit #1H-#6H, ABR-20100646, Cummings Township, Lycoming County, Pa; Rescind Date: April 18, 2014.

9. Range Resources—Appalachia, LLC, Pad ID: Ogontz Fishing Club Unit #12H-#17H, ABR-20100648, Cummings Township, Lycoming County, Pa; Rescind Date: April 18, 2014.

10. Range Resources—Appalachia, LLC, Pad ID: Lone Walnut H.C. Unit #3H Drilling Pad, ABR-201007031, Cummings Township, Lycoming County, Pa; Rescind Date: April 18, 2014.

Authority: Pub. L. 91-575, 84 Stat. 1509 et seq., 18 CFR Parts 806, 807, and 808.

Dated: June 24, 2014.
Stephanie L. Richardson,
Secretary to the Commission.

[FR Doc. 2014-15427 Filed 6-30-14; 8:45 am]

BILLING CODE 7040-01-P